DEPARTMENT OF THE INTERIOR

National Park Service

Notice of Inventory Completion: Arizona State Museum, University of Arizona, Tucson, AZ

AGENCY: National Park Service, Interior.

ACTION: Notice.

Notice is here given in accordance with the Native American Graves Protection and Repatriation Act (NAGPRA), 25 U.S.C. 3003, of the completion of an inventory of human remains in the possession and control of the Arizona State Museum, University of Arizona, Tucson, AZ. The human remains were removed from Franklin County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by Arizona State Museum professional staff in consultation with representatives of the Confederated Tribes of the Colville Reservation, Washington; Confederated Tribes of the Umatilla Indian Reservation, Oregon; Confederated Tribes of the Warm Springs Reservation of Oregon; Confederated Tribes and Bands of the Yakama Nation, Washington; Nez Perce Tribe, Idaho (previously listed as Nez Perce Tribe of Idaho); and Wanapum Band, a non-federally recognized Indian group.

In 1976, human remains representing a minimum of two individuals were removed from Strawberry Island on the Snake River in Franklin County, WA, by Mr. Gene Meyers, a member of the Mid-Columbia Archaeological Society. Mr. Meyers gave the human remains to Dr. David G. Rice of the University of Idaho. In 1976, the human remains were received from Dr. Rice and accessioned by the Arizona State Museum (Accession No. 76-76). No known individuals were identified. No associated funerary objects are present.

Morphological traits of the cranial remains indicate that the individuals were Native American. The specific location on Strawberry Island where the human remains were collected is unknown. However, the excellent state of preservation of the human remains suggests that they were obtained from the Miller Site (45FR5), which was occupied during late prehistoric or protohistoric times (approximately A.D.1400-1750).

Strawberry Island is located on the Snake River near its confluence with the Columbia River in Franklin County, WA. Treaties between the United States Government and the Nez Perce, Yakama, Walla Walla, Cayuse, Palouse, and Umatilla tribes established the Snake River as the common boundary between the Confederated Tribes and Bands of the Yakama Nation to the north and the Confederated Tribes of the Umatilla Indian Reservation to the south. Furthermore, archeological evidence, oral tradition, and historic evidence establishes a continuity of occupation and seasonal use of Strawberry Island from prehistoric times to the arrival of Europeans in the region. The island was an important village site and burial site for the people of the Columbia Plateau. The island and its immediate vicinity were also used for camping, fishing, food gathering, grazing of horses and as a location for important social gatherings of the tribes. A report prepared in 2002 by Teara Farrow for the Walla Walla District of the U.S. Army Corps of Engineers identifies the island and its immediate vicinity as a Traditional Cultural Property of the Waluuluapam (“Walla Walla people”), Imatalamlama (“Umatilla people”), and Weyiiletpuu (“Cayuse people”). It was also an important area for the Paluus (“Palouse”), Yakama, Niimiipuu (“Nez Perce people”), and Wanapam (“river people” or Wanapum). Descendants of the Walla Walla, Umatilla, Cayuse, Palouse, Yakama, Nez Perce, and Wanapum are members of the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and Wanapum Band, a non-federally recognized Indian group.

Officials of the Arizona State Museum have determined that, pursuant to 25 U.S.C. 3001 (9-10), the human remains described above represent the physical remains of two individuals of Native American ancestry. Officials of the Arizona State Museum have also determined that, pursuant to 25 U.S.C. 3001 (2), there is a relationship of shared group identity that can be reasonably traced between the Native American human remains and the Confederated Tribes of the Colville Reservation, Washington; Confederated Tribes of the Umatilla Indian Reservation, Oregon; Confederated Tribes of the Warm Springs Reservation of Oregon; Confederated Tribes and Bands of the Yakama Nation, Washington; and Nez Perce Tribe, Idaho. Furthermore, officials of the Arizona State Museum have determined that there is a cultural relationship between the human remains and the Wanapum Band, a non-federally recognized Indian group.

Representatives of any other Indian tribe that believes itself to be culturally affiliated with the human remains should contact John McClelland, NAGPRA Coordinator, Arizona State Museum, University of Arizona, Tucson, AZ 85721, telephone (520) 626- 2950, before September 12, 2008. Repatriation of the human remains to the Confederated Tribes of the Colville Reservation, Washington; Confederated Tribes of the Umatilla Indian Reservation, Oregon; Confederated Tribes of the Warm Springs Reservation of Oregon; Confederated Tribes and Bands of the Yakama Nation, Washington; and Nez Perce Tribe, Idaho on behalf of themselves and the Wanapum Band, a non-federally recognized Indian group may proceed after that date if no additional claimants come forward.

The Arizona State Museum is responsible for notifying the Confederated Tribes of the Colville Reservation, Washington; Confederated Tribes of the Umatilla Indian Reservation, Oregon; Confederated Tribes of the Warm Springs Reservation of Oregon; Confederated Tribes and Bands of the Yakama Nation, Washington; Nez Perce Tribe, Idaho; and Wanapum Band, a non-federally recognized Indian group that this notice has been published.

Dated: June 30, 2008
Daniel Odess,
Assistant Associate Director, Park Cultural Resources.

[FR Doc. E8-18691 Filed 8-12-08; 8:45 am]

BILLING CODE 4312-50-S